DEPARTMENT OF COMMERCE

National Oceanic and Atmospheric Administration

Notice of Findings Regarding Commercial Availability of Non-U.S. Satellite Imagery With Respect to Israel

ACTION: Notice.

SUMMARY: Section 1064, Public Law 104-201 (the 1997 Defense Authorization Act)—referred to as the Kyl-Bingaman Amendment—requires that “[a] department or agency of the United States may issue a license for the collection or dissemination by a non-Federal entity of satellite imagery with respect to Israel only if such imagery is no more detailed or precise than satellite imagery of Israel that is available from commercial sources.” Pursuant to this law, the Department of Commerce makes findings as to the level of detail or precision of satellite imagery of Israel available from commercial sources. The Department has found that satellite imagery of Israel is readily and consistently available from non-U.S. commercial sources at a resolution of 0.4 meters Ground Sample Distance (m GSD). The Department has therefore changed the existing resolution limit of 2.0 m GSD to 0.4 m GSD.

SUPPLEMENTARY INFORMATION: All licenses issued by the Commercial Remote Sensing Regulatory Affairs Office (CRSRA) include a standard condition implementing the requirements of the Kyl-Bingaman Amendment. This Notice formally specifies the resolution available from commercial sources of the State of Israel for that purpose, such that this license condition now prohibits the dissemination of satellite imagery over Israel at a resolution finer than 0.4 m GSD; this condition does not distinguish between new and archived data. Note that other conditions in CRSRA licenses, as well as other U.S. law and regulations, may still be applicable.

To determine what imagery is “available from commercial sources,” the Department looks to what “level of imagery resolution [is] readily and consistently available in sufficient quantities from non-U.S. sources.” Licensing of Private Land Remote-Sensing Space Systems, 71 FR 24474, 24479 (Apr. 25, 2006). A recent review found that there are an increasing number of non-U.S. space-based remote sensing systems that produce sub-2 m images. Many of these systems make such imagery over Israel available on commercial terms, and images can be purchased directly from non-U.S. operators, non-U.S. resellers, and resellers within the U.S. An analysis of imagery samples, which were provided as representative of images available over Israel, found that distributors of sub-2 m images of Israel are accurately advertising the resolutions of their products. The finest resolution product analyzed had a resolution of 0.4 m GSD. The Department concluded that images of Israel at 0.4 m GSD are readily and consistently available from multiple commercial sources.

There are currently very few non-U.S. commercial sources that are or will soon be capturing imagery at lower than the revised 0.4 m resolution limit; this imagery was not found to be readily or consistently available.

The Department of Commerce will routinely review this finding as additional information is made available and invites the public to voluntarily provide evidence of availability of commercial imagery over Israel at a finer resolution than 0.4 m GSD. Any future finding by the Department will be documented in a subsequent notice in the Federal Register.

FOR FURTHER INFORMATION CONTACT: Tahara Dawkins, Commercial Remote Sensing Regulatory Affairs Office, NOAA Satellite and Information Services, 1335 East-West Highway, Suite G-101, Silver Spring, Maryland 20910; telephone (301) 713-3385, email tahara.dawkins@noaa.gov.

Tahara Dawkins,
Director, Commercial Remote Sensing Regulatory Affairs.

[FR Doc. 2020-15770 Filed 7-17-20; 11:15 am]

BILLING CODE P